DEPARTMENT OF TRANSPORTATION

Federal Transit Administration

National Rural Transportation Assistance Program Request for Proposal (RFP); Correction

AGENCY: Federal Transit Administration, DOT.

ACTION: Notice; request for proposals; correction.

SUMMARY: In the Federal Register Notice of February 26, 2008 (73 FR 10237), the Federal Transit Administration published a notice regarding the National Rural Transportation Assistance Program Request for Proposals (RFP). The DATES and Instruction sections of this notice should be corrected to read as follows:

DATES: Proposals must be submitted electronically by April 11, 2008.

VII. Instructions

2. Proposals must be received no later than 5:30 p.m., EST, April 11, 2008.

Effective Date: This correction takes effect on February 26, 2008.

FOR FURTHER INFORMATION CONTACT: Pamela Brown at 202-493-2503, Fax: 202-366-7951, or via e-mail: Pamela.Brown@dot.gov, or Lorna Wilson at 202-366-2053; or via e-mail lorna.wilson@dot.gov.

Issued in Washington, DC this 4th day of March, 2008.
James S. Simpson,
Administrator.

[FR Doc. E8-4721 Filed 3-7-08; 8:45 am]

BILLING CODE 4910-57-P